DEPARTMENT OF ENERGY

Federal Energy Regulatory Commission

[Docket No. RP01-106-000]

Questar Pipeline Company; Notice of Tariff Filing

November 21, 2000.

Take notice that on November 16, 2000, Questar Pipeline Company tendered for filing as part of its FERC Gas Tariff, the following tariff sheets, to be effective January 1, 2001:

First Revised Volume No. 1

Eighteenth Revised Sheet No. 1

Original Volume No. 3

Twenty-Seventh Revised Sheet No. 8

On June 1, 2000, GRI requested approval of funding for its year 2001 research, development and demonstration program and its 2001-2005 five-year plan. The Commission issued an order on September 19, 2000, in Docket No. RP00-313-000, approving GRI's funding plans. Questar's filing incorporated the approved GRI surcharge rates in the Statement of Rates to Questar's tariff.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30207 Filed 11-22-00; 8:45 am]

BILLING CODE 6717-01-M